DEPARTMENT OF TRANSPORTATION

Federal Highway Administration

[Docket No. FHWA-2025-0169]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by November 17, 2025.

ADDRESSES: You may submit comments identified by DOT Docket ID Number 0169 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Mahmmud Yousef, (407) 506-8858, Office of Infrastructure, Federal Highway Administration, Department of Transportation, 1200 New Jersey Avenue SE, Washington, DC 20590. Office hours are from 7 a.m. to 4 p.m., Monday through Friday, except Federal holidays.

SUPPLEMENTARY INFORMATION:

Title: Site Assessment Report—Detailed Damage Inspection Report (DDIR).

Background:—A Detailed Damage Inspection Report (DDIR) is an official document prepared under the Federal Highway Administration's (FHWA) Emergency Relief (ER) Program, authorized by Title 23 of the United States Code. The purpose of the DDIR is to provide a thorough assessment of roadway and bridge damages caused by natural disasters or catastrophic events, such as floods, hurricanes, earthquakes, or other emergencies.

The report documents the specific site location, roadway classification, and jurisdiction, along with detailed descriptions of the observed damage. It also includes supporting documentation such as photographs, maps, and inspection notes to establish the nature and extent of the damages. Cost estimates for both emergency repairs and permanent repairs are included, along with proposed contracting methods.

Additionally, the DDIR evaluates the potential for resilience improvements, ensuring compliance with federal requirements that promote cost-effective measures to minimize future damage and repair needs. The completed report serves as the foundation for determining eligibility of a site under the ER program.

In addition to establishing site eligibility, the DDIR is also used to develop the Program of Projects required under 23 U.S.C. 125, which compiles all eligible sites and their associated cost estimates.

Respondents: 50 State DOTs, local and state governments, District of Columbia, Commonwealth of Puerto Rico, United States territories of American Samoa, Guam, N Marina Is., and the Virgin Islands (4 territories), etc.

Frequency: One per damaged site.

Estimated Average Burden per Response: 2 hours per each assessment.

Estimated Total Annual Burden Hours: 112 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

(Authority: The Paperwork Reduction Act of 1995; 44 U.S.C. chapter 35, as amended; and 49 CFR 1.48.)

Issued on: September 11, 2025.
Jazmyne Lewis,
Information Collection Officer.

[FR Doc. 2025-17809 Filed 9-15-25; 8:45 am]

BILLING CODE 4910-22-P